DEPARTMENT OF THE TREASURY

Office of Thrift Supervision

[AC-08: OTS Nos. 18040 and H-4364]

CMS Bancorp, Inc., White Plains, New York; Approval of Conversion Application

Notice is hereby given that on February 12, 2007, the Assistant Managing Director, Examinations and Supervision—Operations, Office of Thrift Supervision, or her designee, acting pursuant to delegated authority, approved the application of Community Mutual Savings Bank, White Plains, New York, to convert to the stock form of organization. Copies of the application are available for inspection by appointment (phone number: 202-906-5922 or e-mail:) at the Public Reading Room, 1700 G Street, NW., Washington, DC 20552, and the OTS Northeast Regional Office, Harborside Financial Center Plaza Five, Suite 1600, Jersey City, New Jersey 07311.

Dated: February 13, 2007.
By the Office of Thrift Supervision.
Sandra E. Evans,
Legal Information Assistant.

[FR Doc. 07-737 Filed 2-15-07; 8:45 am]

BILLING CODE 6720-01-M